DEPARTMENT OF EDUCATION

National Assessment Governing Board

AGENCY: National Assessment Governing Board, U.S. Department of Education.

ACTION: Announcement of open and closed meetings.

SUMMARY: This notice sets forth the agenda for the November 14-16, 2019 Quarterly Board Meeting of the National Assessment Governing Board (hereafter referred to as Governing Board). This notice provides information to members of the public who may be interested in attending the meeting or providing written comments related to the work of the Governing Board. Notice of this meeting is required under § 10(a) (2) of the Federal Advisory Committee Act (FACA). This notice is being posted late because of challenges in ensuring the availability of members to constitute a quorum.

DATES: The Quarterly Board Meeting will be held on the following dates:

• November 14, 2019 from 4:00 p.m. to 6:00 p.m.

• November 15, 2019 from 8:30 a.m. to 5:30 p.m.

• November 16, 2019 from 7:30 a.m. to 12:00 p.m.

ADDRESSES: Westin Arlington Gateway, 801 N. Glebe Road, Arlington, VA 22203

FOR FURTHER INFORMATION CONTACT: Munira Mwalimu, Executive Officer/Designated Federal Official for the Governing Board, 800 North Capitol Street NW, Suite 825, Washington, DC 20002, telephone: (202) 357-6938, fax: (202) 357-6945, email: Munira.Mwalimu@ed.gov.

SUPPLEMENTARY INFORMATION:

Statutory Authority and Function: The Governing Board is established under the National Assessment of Educational Progress Authorization Act, Title III of Pub. L. 107-279. Information on the Governing Board and its work can be found at www.nagb.gov.

The Governing Board is established to formulate policy for the National Assessment of Educational Progress (NAEP) administered by the National Center for Education Statistics (NCES). The Governing Board's responsibilities include the following: Selecting subject areas to be assessed, developing assessment frameworks and specifications, developing appropriate student achievement levels for each grade and subject tested, developing standards and procedures for interstate and national comparisons, improving the form and use of NAEP, developing guidelines for reporting and disseminating results, and releasing initial NAEP results to the public.

Written comments related to the work of the Governing Board may be submitted electronically or in hard copy to the attention of the Executive Officer/Designated Federal Official (see contact information noted above).

November 14-16, 2019—Committee Meetings

The Governing Board's standing committees will meet to conduct regularly scheduled work based on agenda items planned for this Quarterly Board Meeting and follow-up items as reported in the Governing Board's committee meeting minutes available at https://www.nagb.gov/governing-board/quarterly-board-meetings.html.

Detailed Meeting Agenda: November 14-16, 2019

November 14: Committee Meetings

Executive Committee: Open Session: 4:00 p.m. to 4:30 p.m.; Closed Session 4:30 p.m. to 6:00 p.m.

November 15: Full Governing Board and Committee Meetings

Full Governing Board: Open Session: 8:30 a.m. to 9:35 a.m. Closed Session: 12:00 p.m. to 2:15 p.m.; Open Session: 2:30 p.m. to 5:30 p.m.

Committee Meetings: 9:40 a.m. to 11:45 a.m.

Assessment Development Committee (ADC): Open Session: 9:45 a.m. to 11:45 a.m.

Committee on Standards, Design and Methodology (COSDAM): Open Session: 9:45 a.m. to 10:30 a.m.; Closed Session: 10:30 a.m.-11:45 a.m.;

Reporting and Dissemination Committee (R&D): Open Session: 9:45 a.m. to 11:45 a.m.;

November 16: Full Governing Board and Committee Meetings

Nominations Committee: Closed Session: 7:30 a.m. to 8:15 a.m.

Full Governing Board: Open Session: 8:30 a.m. to 12:00 p.m.;

On Thursday, November 14, 2019, the Executive Committee will convene in open session from 4:00 p.m. to 4:30 p.m. and thereafter in closed session from 4:30 p.m. to 6:00 p.m. During the closed session, the Executive Committee will discuss the NAEP Assessment Schedule and budget implications for future NAEP assessments based on the approved NAEP Assessment Schedule and independent government cost estimates. This meeting must be conducted in closed session because public disclosure of this information would likely have an adverse financial effect on the NAEP program by providing detailed proprietary contract costs of current NAEP contractors to the public and disclose independent government cost estimates for future NAEP assessments. Discussion of this information would be likely to significantly impede implementation of a proposed agency action if conducted in open session. Such matters are protected by exemption 9(B) of section 552b of Title 5 U.S.C.

On Friday, November 15, 2019, the Governing Board will meet in open session from 8:30 a.m. to 9:35 a.m. to review and approve the November 15-16, 2019 Quarterly Board Meeting agenda and meeting minutes from the August 2019 Quarterly Board meeting. The Governing Board will be welcomed by the Governing Board Vice Chair who will then provide remarks and introduce new members. Thereafter, Secretary of Education, Betsy DeVos, will administer the oath of office to the new members and then address the Governing Board. Newly appointed members will then provide introductory remarks.

From 9:30 a.m. to 9:35 a.m., standing committee chairs will provide a preview of committee meeting agendas. At 9:35 a.m., the Governing Board will recess for a 10-minute break and meet thereafter in committee meetings from 9:45 a.m. to 11:45 a.m.

ADC and R&D will convene in open session from 9:45 a.m. to 11:45 a.m. to conduct regular business. COSDAM will meet in open session from 9:45 a.m. to 10:30 a.m. to discuss COSDAM priorities and current activities. From 10:30 a.m. to 11:45 a.m. COSDAM will meet in closed session to discuss plans for the design of 2021 NAEP assessments. The presentation contains secure materials from the Reading and Mathematics assessments. Public disclosure of secure materials would significantly impede implementation of the NAEP assessment program if conducted in open session. Such matters are protected by exemption 9(B) of § 552b of Title 5 U.S.C.

Following the committee meetings, on Friday, November 15, 2019, the Governing Board will convene in closed session from 12:00 p.m. to 1:30 p.m. During this session, the Governing Board will receive a briefing and discuss the NAEP Budget vis-à-vis the NAEP Assessment Schedule, as well as discuss the status of the NAEP design and potential impact to the NAEP budget with long-term implications for the NAEP Assessment Schedule and Budget. The discussions will involve a briefing on confidential design change costs via-a-vis independent government cost estimates for assessing NAEP subjects on the recently approved NAEP Assessment Schedule. This meeting must be conducted in closed session as discussion of the independent government cost estimates for NAEP design changes that impact current and future NAEP contracts are confidential. Public disclosure of secure data would significantly impede implementation of the NAEP assessment program if conducted in open session. Such matters are protected by exemption 9(B) of § 552b(c) of Title 5 of the United States Code.

The Governing Board will take a 15-minute break and reconvene in closed session from 1:30 p.m. to 2:15 p.m. to receive an ethics briefing from the Office of General Counsel. This briefing will involve a question and answer session on Governing Board member ethics matters. The discussions pertain solely to internal personnel rules and practices of an agency and information of a personal nature where disclosure would constitute a clearly unwarranted invasion of personal privacy. As such, the discussions are protected by exemptions 2 and 6 of § 552b(c) of Title 5 of the United States Code.

Following a 15 minute break, the Governing Board will meet in open session from 2:30 p.m. to 4:15 p.m. The Governing Board will receive an update on the NAEP Mathematics Framework and an overview of the NAEP Postsecondary Preparedness work. Following these sessions, the Governing Board will take a 15-minute recess and meet in small groups to discuss post-secondary preparedness from 4:30 p.m. to 5:30 p.m.

The November 15, 2019 session of the Governing Board meeting will adjourn at 5:30 p.m.

On Saturday, November 16, 2019, the Nominations Committee will meet from 7:30 a.m. to 8:15 a.m. in closed session to discuss a briefing on applications received and reviewed for the 2020 nominations cycle for Governing Board appointments for terms that will begin October 1, 2020. The discussions pertain solely to internal personnel rules and practices of an agency and information of a personal nature where disclosure would constitute a clearly unwarranted invasion of personal privacy. As such, the discussions are protected by exemptions 2 and 6 of § 552b(c) of Title 5 of the United States Code.

On November 16, 2019, the Governing Board will meet in open session from 8:30 a.m. to 12:00 p.m. From 8:30 a.m. to 9:00 a.m. the Governing Board will discuss highlights from the prior day's breakout group meetings and engage in discussion on post-secondary preparedness. From 9:00 a.m. to 9:20 a.m., the Governing Board will receive an update on a proposed statement of the intended meaning of NAEP results. From 9:20 a.m. to 10:00 a.m., the Governing Board will receive an update on the work of the Achievement Levels working Group, following which the Governing Board will recess for a 15 minutes break.

From 10:15 a.m. to 10:45 a.m., Executive Director, Lesley Muldoon will provide an update on the Governing Board's work. Committee reports will be provided from 10:45 a.m. to 11:15 a.m. with an action item submitted by the Assessment Development Committee to approve the 2025 NAEP Mathematics Framework.

From 11:15 a.m. to 11:45 a.m. the Governing Board has set aside time for open discussion on Governing Board priorities and topics that members will bring up for future discussions. From 11:45 a.m. to 12:00 p.m. Governing Board member Dana Boyd will provide a preview of the upcoming March 2020 Governing Board meeting scheduled to be held in El Paso, Texas.

The November 16, 2019 session of the Governing Board meeting will adjourn at 12:00 p.m.

Access to Records of the Meeting: Pursuant to FACA requirements, the public may also inspect the meeting materials at www.nagb.gov beginning on November 11, 2019, by 10:00 a.m. EST. The official verbatim transcripts of the public meeting sessions will be available for public inspection no later than 30 calendar days following the meeting.

Reasonable Accommodations: The meeting site is accessible to individuals with disabilities. If you will need an auxiliary aid or service to participate in the meeting (e.g., interpreting service, assistive listening device, or materials in an alternate format), notify the contact person listed in this notice no later than Monday, November 11, 2019.

Electronic Access to this Document: The official version of this document is the document published in the Federal Register. Internet access to the official edition of the Federal Register and the Code of Federal Regulations is available via the Federal Digital System at: www.gpo.gov/fdsys. At this site you can view this document, as well as all other documents of this Department published in the Federal Register, in text or Adobe Portable Document Format (PDF). To use PDF, you must have Adobe Acrobat Reader, which is available free at the Adobe website. You may also access documents of the Department published in the Federal Register by using the article search feature at: www.federalregister.gov. Specifically, through the advanced search feature at this site, you can limit your search to documents published by the Department.

Authority: Pub. L. 107-279, Title III—National Assessment of Educational Progress § 301.

Lesley Muldoon,
Executive Director, National Assessment Governing Board (NAGB), U. S. Department of Education.

[FR Doc. 2019-24637 Filed 11-12-19; 8:45 am]

BILLING CODE P